FEDERAL COMMUNICATIONS COMMISSION

Radio Broadcasting Services; AM or FM Proposals To Change the Community of License

AGENCY: Federal Communications Commission.

ACTION: Notice.

SUMMARY: The following applicants filed AM or FM proposals to change the community of license: APPALACHIAN BROADCASTING COMPANY, INC., Station WGOG, Facility ID 2462, BPH-20090819AGW, From WALHALLA, SC, To POWDERSVILLE, SC; BMP AUSTIN LICENSE COMPANY, L.P., Station KXXS, Facility ID 19223, BPH-20090811ACJ, From ELGIN, TX, To SUNSET VALLEY, TX; BRISTOL BROADCASTING COMPANY, INC., Station WFHG-FM, Facility ID 36982, BPH-20090729AEG, From ABINGDON, VA, To BLUFF CITY, TN; CAPSTAR TX LIMITED PARTNERSHIP, Station KMRQ, Facility ID 12963, BPH-20090820ABX, From MANTECA, CA, To RIVERBANK, CA; CHOICE BROADCASTING COMPANY, Station KCNM-FM, Facility ID 77695, BMPH-20090818AAB, From GARAPAN-SAIPAN, MP, To TAMUNING, GU; COLLEGE CREEK MEDIA, LLC, Station KHIJ, Facility ID 164142, BPH-20090813ABB, From MESQUITE, NV, To BUNKERVILLE, NV; COX RADIO, INC., Station WHZT, Facility ID 5971, BPH-20090819AGV, From SENECA, SC, To WILLIAMSTON, SC; DAVIDSON COUNTY BROADCASTING CO, INC., Station WTHZ, Facility ID 15839, BMPH-20090724ACK, From LEXINGTON, NC, To FAITH, NC; FREQUENCY COLLABORATION CORP., Station KDRX, Facility ID 165967, BMPH-20070118AEA, From ROCKSPRINGS, TX, To LAUGHLIN AFB, TX; KIERTRON, INC., Station KCBC, Facility ID 34587, BP-20090820ABR, From RIVERBANK, CA, To MANTECA, CA; RADIO STATIONS WPAY/WPFB, INC., Station WPAY-FM, Facility ID 54813, BPH-20090715AAJ, From PORTSMOUTH, OH, To NEW BOSTON, OH; RADIOACTIVE, LLC, Station WRAX, Facility ID 164247, BMPH-20090818ABD, From WALHALLA, MI, To LAKE ISABELLA, MI; SIMMONS-AUSTIN, LS, LLC, Station KWNX, Facility ID 35647, BP-20090819AHB, From TAYLOR, TX, To ELGIN, TX; TEXAS PELICAN MEDIA, Station KTPM, Facility ID 176117, BMPED-20090730AEJ, From FALFURRIAS, TX, To PREMONT, TX; TUGART PROPERTIES, LLC, Station WSNW, Facility ID 5969, BP-20090819AGX, From SENECA, SC, To WALHALLA, SC; YAQUINA BAY COMMUNICATIONS, INC., Station KYTE, Facility ID 9848, BPH-20090629AAD, From NEWPORT, OR, To INDEPENDENCE, OR.

DATES: Comments may be filed through November 9, 2009.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. E9-21593 Filed 9-4-09; 8:45 am]

BILLING CODE 6712-01-P